SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 19, 2002.

ADDRESSES: Send all comments regarding whether this information collection is necessary for the proper performance of the function of the agency, whether the burden estimate is accurate, and if there are ways to minimize the estimated burden and enhance the quality of the collection, to Louis Cupp, New Markets Policy Analyst, Office of New Markets Venture Capital (NMVC) program, Small Business Administration, 409 3rd Street, SW., Suite 6000.

FOR FURTHER INFORMATION CONTACT: Louis Cupp, New Markets Policy Analyst, Office of New Markets Venture Capital (NMVC) program, 202-205-6510 or Curtis B. Rich, Management Analyst, (202) 205-7030.

SUPPLEMENTARY INFORMATION: Titles: NMVC Program Application, Funding and Reporting.

Form No's: SBA Forms 2184, 2185, 2069, 468, 468 (short form), 468, (Schedule 9,10,11) 480 and 1031 Standard Forms (SF's are under OMB Control) 269, 270, 272, 424, 424A and 424B.

Description of Respondents: NMVC Program applicants and participants; SSBICs receiving grants under the NMVC program.

Annual Responses: 947.

Annual Burden: 11,538 hours.

Jacqueline White,
Chief, Administrative Information Branch.

[FR Doc. 02-1314 Filed 1-17-02; 8:45 am]

BILLING CODE 8025-01-P